FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 15, 2016.

A. Federal Reserve Bank of Minneapolis (Jacquelyn K. Brunmeier, Assistant Vice President) 90 Hennepin Avenue, Minneapolis, Minnesota 55480-0291:

1. The Marathon 2016 Irrevocable Trust, Mitchell, South Dakota (FNN Trust Company, Mitchell, South Dakota, Trustee; Todd L. Johnson, Duluth, Minnesota); and the Cordoba 2016 Irrevocable Trust, Mitchell, South Dakota (FNN Trust Company, Trustee; Todd L. Johnson), to retain shares of NATCOM Bancshares, Inc., Superior, Wisconsin, and join the Todd Johnson Shareholder Group, which controls NATCOM Bancshares, Inc., Superior, Wisconsin, and thereby indirectly retain control of National Bank of Commerce, Superior, Wisconsin. In addition, the NEX.gen 2016 Irrevocable Trust, Mitchell, South Dakota (FNN Trust Company and Jeffrey Thompson, Hermantown, Minnesota, Co-Trustees; Bruce Thompson, Superior, Wisconsin, Trust Protector), to join the Todd Johnson Shareholder Group as a result of adding Todd L. Johnson as a Co-Trustee of the NEX.gen 2016 Irrevocable Trust; to acquire voting shares of NATCOM Bancshares, Inc., and thereby indirectly acquire voting shares of National Bank of Commerce, both in Superior, Wisconsin.

Board of Governors of the Federal Reserve System, February 24, 2016.
Michael J. Lewandowski,
Associate Secretary of the Board.

[FR Doc. 2016-04285 Filed 2-26-16; 8:45 am]

BILLING CODE 6210-01-P